DEPARTMENT OF THE INTERIOR

National Park Service

[NPS-WASO-NAGPRA-NPS0032324; PPWOCRADN0-PCU00RP14.R50000]

Notice of Intent To Repatriate Cultural Items: University of Denver Museum of Anthropology, Denver, CO

AGENCY: National Park Service, Interior.

ACTION: Notice.

SUMMARY: The University of Denver Museum of Anthropology, in consultation with the appropriate Indian Tribes or Native Hawaiian organizations, has determined that the cultural items listed in this notice meet the definition of objects of cultural patrimony. Lineal descendants or representatives of any Indian Tribe or Native Hawaiian organization not identified in this notice that wish to claim these cultural items should submit a written request to the University of Denver Museum of Anthropology. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the University of Denver Museum of Anthropology at the address in this notice by August 23, 2021.

FOR FURTHER INFORMATION CONTACT: Anne Amati, University of Denver Museum of Anthropology, 2000 E Asbury Avenue, Sturm Hall 146, Denver, CO 80208, telephone (303) 871-2687, email anne.amati@du.edu.

SUPPLEMENTARY INFORMATION: Notice is here given in accordance with the Native American Graves Protection and Repatriation Act (NAGPRA), 25 U.S.C. 3005, of the intent to repatriate cultural items under the control of the University of Denver Museum of Anthropology, Denver, CO, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, one cultural item was removed from an unknown site in the state of Arizona. At an unknown date, the item came into the possession of Kohlberg's Antique Store in Denver, CO, where it was purchased by Fallis F. Rees. In 1967, Mr. Rees donated the item to the University of Denver Museum of Anthropology. The one object of cultural patrimony is a dipper (DU# 3887). It is in the Gila Plain style and was likely produced between A.D. 200-1450, which encompasses the Hohokam cultural sequence.

At unknown dates, 16 cultural items were removed from unknown sites in the state of Arizona. At unknown dates, the items came into the possession of Fallis F. Rees who, in 1967, donated the items to the University of Denver Museum of Anthropology. The 16 objects of cultural patrimony are one effigy bowl (DU# 3902), one miniature bowl (DU# 3906), one jar (DU# 3908), one shell needle (DU# 3916), one shell pendant (DU#3917a), two medicine stones (DU#3919a and b), one bowl (DU# 3926), one ax (DU# 3951), two figurine fragments (DU#3980 and 3981b), one basket (DU# 5762), one jar (DU#3881), one miniature pitcher (DU#4108), one fragment of amber (DU#2669), and one stone ruler (DU#2671). The 16 objects of cultural patrimony are consistent with the material type and manufacture techniques of Hohokam material culture.

At an unknown date, one cultural item was removed from an unknown site in the state of Arizona. At an unknown date, the one item came into the possession of the Original Curio Store in Santa Fe, NM, where it was purchased by Fallis F. Rees. In 1967, Mr. Rees donated the item to the University of Denver Museum of Anthropology. The one object of cultural patrimony is a ceremonial container (DU# 3922). It is consistent with the material type and manufacture techniques of Hohokam material culture.

At an unknown date, one cultural item was removed from an unknown site in the state of Arizona. At an unknown date, the item came into the possession of Gladys Hicks, who gifted it to Fallis F. Rees. In 1967, Mr. Rees donated the item to the University of Denver Museum of Anthropology. The one object of cultural patrimony is a pipe stem (DU# 4092). It is consistent with the material type and manufacture techniques of Hohokam material culture.

At an unknown date, one cultural item was removed from Casa Malpais, near Springerville in Apache County, AZ. At an unknown date, the item came into the possession of Fallis F. Rees who, in 1967, donated the item to the University of Denver Museum of Anthropology. The one object of cultural patrimony is a vesicular basalt phallus (DU# 3940). Casa Malpais is a late Mogollon habitation site which was occupied from A.D. 1250 to 1400 and encompasses the Hohokam sequence.

At an unknown date, one cultural item was removed from an unknown site in the Mojave Desert, either in Arizona or California. At an unknown date, G. and T. Cox obtained the item from the E.R. Callahan Collection. At an unknown date, G. and T. Cox gifted the item to Fallis F. Rees, and in 1967, Mr. Rees donated it to the University of Denver Museum of Anthropology. The one object of cultural patrimony is a human figure jar (DU#4109). It is consistent with the material type and manufacture techniques of Hohokam material culture.

At an unknown date, one cultural item was removed from an unknown site at Roosevelt Lake in Gila County, AZ. At an unknown date, the item came into the possession of Fallis F. Rees who, in 1967, donated the item to the University of Denver Museum of Anthropology. The one object of cultural patrimony is a stone phallus (DU# 3977). It is consistent with the material type and manufacture techniques of Hohokam material culture.

At an unknown date, one cultural item was removed from an unknown site in Maricopa County, AZ. In 1951, the item was accessioned by the University of Denver Museum of Anthropology. The one object of cultural patrimony is a drum basket (DU#1675). It is consistent with the material type and manufacture techniques of Hohokam material culture. The form and decoration are consistent with items attributable to the Akimel O'odham, aka Pima, of the Gila River Indian Community of the Gila River Indian Reservation, Arizona.

At an unknown date, two cultural items were removed from the Agua Fria River Cliffs in Maricopa County, AZ. According to museum records, the items were found “seven miles north of Highway 70, 80, and 93.” At an unknown date, the items came into the possession of Omar Turney, a Phoenix archeologist and engineer who studied prehistoric irrigation canals in the Salt River Valley. At an unknown date, Turney transferred the two items to Frank Midvale, a Casa Grande Monument ranger and archeologist who had been Turney's student at Arizona State University (ASU). In 1963, Midvale was dispersing his collection to various museums and began sending material to Fallis F. Rees. In 1967, Mr. Rees donated the item to the University of Denver Museum of Anthropology. The two objects of cultural patrimony are petroglyphs (DU# 4295a-b). They are consistent with the material type and manufacture techniques of Hohokam material culture.

At an unknown date, two cultural items were removed from a location near La Ciudad (Grande) Ruin in Maricopa County, AZ. At unknown dates, one of the cultural items came into the possession of Fallis F. Rees and the other cultural item came into the possession of Frank Midvale. In 1963, Midvale was dispersing his collection to various museums and began sending material to Fallis F. Rees. In 1967, Mr. Rees donated the two items to the University of Denver Museum of Anthropology. The two objects of cultural patrimony are: One medicine stone (DU# 3979) and one stone phallus (DU#3975). La Ciudad (Grande) Ruin is a prehistoric Hohokam habitation site which was occupied from A.D. 200-1450.

At an unknown date, two cultural items were removed from “Gila Bend Pyramid” in Maricopa County, AZ, by Dr. William Wasley. Based on archival research, museum staff believes that “Gila Bend Pyramid” is a reference to the Hohokam Platform Mound at the Gatlin Site, located three miles north of Gila Bend, AZ. At an unknown date the items came into the possession of Frank Midvale. In 1963, Midvale was dispersing his collection to various museums and began sending material to Fallis F. Rees. In 1967, Mr. Rees donated the items to the University of Denver Museum of Anthropology. The two objects of cultural patrimony are copper bells (DU# 3914a&b). Gatlin site is a prehistoric Hohokam habitation site which was occupied from A.D. 800-1200.

At an unknown date, two cultural items were removed from a ditch near Mesa Grande Ruin in Maricopa County, AZ. At an unknown date, the items came into the possession of Frank Midvale. In 1963, Midvale was dispersing his collection to various museums and began sending material to Fallis F. Rees. In 1967, Mr. Rees donated the two items to the University of Denver Museum of Anthropology. The two objects of cultural patrimony are one jar (DU# 3888a) and one bowl sherd (DU# 3888b). Mesa Grande Ruin is a prehistoric Hohokam habitation site which was occupied from A.D. 1100-1400.

At an unknown date, one cultural item was removed from an unknown site near Phoenix in Maricopa County, AZ. At an unknown date, the item came into the possession of Fallis F. Rees who, in 1967, donated the item to the University of Denver Museum of Anthropology. The one object of cultural patrimony is a stone censer (DU# 3978) identified as belonging to the Santa Cruz-Sacaton period—an identification consistent with the Hohokam cultural sequence—and produced between A.D. 800-1100.

At an unknown date, one cultural item was removed from the ruins on the north side of the Salt River opposite Mesa, in Maricopa County, AZ. At an unknown date, the item came into the possession of Frank Midvale. In 1963, Midvale was dispersing his collection to various museums and began sending material to Fallis F. Rees. In 1967, Mr. Rees donated the item to the University of Denver Museum of Anthropology. The one object of cultural patrimony is a shell bracelet fragment (DU# 3982). It is consistent with the material type and manufacture techniques of Hohokam material culture.

Between 1920 and 1947, three cultural items were removed from an unknown site northwest of Peoria in Maricopa County, AZ, by E.B. Renaud, during an archeological expedition sponsored by the University of Denver. Museum records document the site as “on first level above wash, half mile square, pit house of transitional type (oblong with rounded corners) colonial and sedentary Hohokam.” The three objects of cultural patrimony are three stone palette fragments (DU# misc. coll. AZ25-2.2) identified as belonging to the Colonial-Sedentary period—an identification consistent with the Hohokam cultural sequence—and produced between A.D. 700-1150.

At an unknown date, one cultural item was removed from Walker School Ruin near Phoenix, in Maricopa County, AZ. At an unknown date, the item came into the possession of Fallis F. Rees who, in 1967, donated the item to the University of Denver Museum of Anthropology. The one object of cultural patrimony is red ochre (DU# 3936). It is consistent with the material type and manufacture techniques of Hohokam material culture.

At an unknown date, one cultural item was removed from the Salt River Valley near Phoenix, in Maricopa County, AZ. At an unknown date, the item came into the possession of Fallis F. Rees who, in 1967, donated the item to the University of Denver Museum of Anthropology. The one object of cultural patrimony is a stone palette fragment (DU# 3985). The form and decoration are consistent with the Hohokam cultural sequence between 300 B.C. to A.D. 1100.

At an unknown date, two cultural items were removed from Cashion Ruin near the juncture of the Gila, Salt, and Fria Rivers, in Maricopa County, AZ. At an unknown date, the items came into the possession of Fallis F. Rees who, in 1967, donated the items to the University of Denver Museum of Anthropology. The two objects of cultural patrimony are figurine fragments (DU# 3918a & b). They are consistent with the material type and manufacture techniques of Hohokam material culture.

At an unknown date, one cultural item was removed from an unknown site at Blackwater in Pinal County, AZ. At an unknown date, the item came into the possession of Frank Midvale. In 1963, Midvale was dispersing his collection to various museums and began sending material to Fallis F. Rees. In 1967, Rees donated the item to the University of Denver Museum of Anthropology. The one object of cultural patrimony is a bird figurine (DU# 4106). It is consistent with the material type and manufacture techniques of Hohokam material culture.

At unknown dates, two cultural items were removed from unknown sites in the state of Arizona. At unknown dates, the items came into the possession of Frank Midvale, Casa Grande Monument ranger and archeologist. In 1963, Midvale was dispersing his collection to various museums and began sending material to Fallis F. Rees. In 1967, Rees donated the items to the University of Denver Museum of Anthropology. The two objects of cultural patrimony are one figurine fragment (DU# 3983) and one bowl (DU# 3912). The figurine fragment (DU# 3983) is identified as belonging to the Estrella period and was produced between 300 B.C. to A.D. 550. The bowl (DU#3912) is identified as Santa Cruz red-on-buff ware and was produced between A.D. 700-900. Both objects fall within the Hohokam cultural sequence.

At an unknown date, one cultural item was removed from an unknown site in either southeastern Arizona or southwestern New Mexico. At an unknown date, the item came into the possession of Fallis F. Rees who, in 1967, donated the item to the University of Denver Museum of Anthropology. The one object of cultural patrimony is one lot of beads (DU# 4299). This object is consistent with the material type and manufacture techniques of Hohokam material culture.

At unknown dates, eight cultural items were removed from unknown sites either near the Gila River or in the Gila Valley, in southwestern Arizona. At unknown dates, the items came into the possession of Fallis F. Rees who, in 1967, donated them to the University of Denver Museum of Anthropology. The eight objects of cultural patrimony are one sandstone ball (DU# 3964), one mano (DU# 3974), one medicine stone (DU# 4204), four pendants (DU# 3931a-b & e-f), and one ram-head figurine (DU# 3981a).

The ram-head figurine (DU# 3981a) is an effigy form associated with the Gila River area near the Estrella Mountains (Komadke) and South Mountain Range (Muahadag).The sandstone ball (DU# 3964) is culturally affiliated with the Akimel O'odham, aka Pima, of the Gila River Indian Community of the Gila River Indian Reservation, Arizona. The mano (DU# 3974), medicine stone (DU# 4204), and four pendants (DU# 3931a-b & e-f) are consistent with the material type and manufacture techniques of Hohokam material culture.

All of the cultural items described above have ongoing historical, traditional, or cultural importance central to the Gila River Indian Community of the Gila River Reservation, Arizona and the Salt River Pima-Maricopa Indian Community of the Salt River Reservation, Arizona rather than being property owned by an individual.

The Gila River Indian Community of the Gila River Indian Reservation, Arizona, and the Salt River Pima-Maricopa Indian Community of the Salt River Reservation, Arizona have requested the repatriation of the cultural items described above as follows: The Gila River Indian Community of the Gila River Indian Reservation, Arizona, has requested DU#s 1675, 1691, 2669, 2671, 3881, 3906, 3908, 3912, 3936, 3940, 3951, 3964, 3974, 3978, 3979, 3982, 3983, 3985, 4106, 4204, 4299, 3917a, 3918a-b, 3931a-b, 3931e-f, 3981a-b, and misc. coll. AZ25-2.2; the Salt River Pima-Maricopa Indian Community of the Salt River Reservation, Arizona, has requested DU#s 3926, 3975, 3977, 3888a-b, 3914a-b, 3919a-b, and 4295a-b; and jointly, the Gila River Indian Community of the Gila River Indian Reservation, Arizona, and the Salt River Pima-Maricopa Indian Community of the Salt River Reservation, Arizona, have requested DU#s 3887, 3902, 3916, 3922, 3980, 4092, 4108, 4109, and 5762.

Determinations Made by the University of Denver Museum of Anthropology

Officials of the University of Denver Museum of Anthropology have determined that:

• Pursuant to 25 U.S.C. 3001(3)(D), the 52 cultural items described above have ongoing historical, traditional, or cultural importance central to the Native American group or culture itself, rather than property owned by an individual.

• Pursuant to 25 U.S.C. 3001(2), there is a relationship of shared group identity that can be reasonably traced between the objects of cultural patrimony and the Gila River Indian Community of the Gila River Reservation, Arizona and the Salt River Pima-Maricopa Indian Community of the Salt River Reservation, Arizona (hereafter referred to as “The Tribes”).

Additional Requestors and Disposition

Lineal descendants or representatives of any Indian Tribe or Native Hawaiian organization not identified in this notice that wish to claim these cultural items should submit a written request with information in support of the claim to Anne Amati, University of Denver Museum of Anthropology, 2000 E Asbury Avenue, Sturm Hall 146, Denver, CO 80208, telephone (303) 871-2687, email anne.amati@du.edu, by August 23, 2021. After that date, if no additional claimants have come forward, transfer of control of the objects of cultural patrimony to The Tribes may proceed.

The University of Denver Museum of Anthropology is responsible for notifying The Tribes that this notice has been published.

Dated: July 14, 2021.
Melanie O'Brien,
Manager, National NAGPRA Program.

[FR Doc. 2021-15571 Filed 7-21-21; 8:45 am]

BILLING CODE 4312-52-P